DEPARTMENT OF TRANSPORTATION

Federal Aviation Administration

14 CFR Part 39

[Docket No. FAA-2020-0753; Project Identifier 2019-CE-033-AD; Amendment 39-21331; AD 2020-24-01]

RIN 2120-AA64

Airworthiness Directives; Pilatus Aircraft Ltd. Airplanes

AGENCY: Federal Aviation Administration (FAA), DOT.

ACTION: Final rule.

SUMMARY: The FAA is adopting a new airworthiness directive (AD) for certain Pilatus Aircraft Ltd. Model PC-24 airplanes. This AD results from mandatory continuing airworthiness information (MCAI) originated by an aviation authority of another country to identify and correct an unsafe condition on an aviation product. The MCAI identifies the unsafe condition as overheating of the electrical wiring splices close to the right-hand pitot-static connector on frame 10. The FAA is issuing this AD to address the unsafe condition on these products.

DATES: This AD is effective December 28, 2020.

The Director of the Federal Register approved the incorporation by reference of a certain publication listed in this AD as of December 28, 2020.

ADDRESSES: For service information identified in this final rule, contact Pilatus Aircraft Ltd., Customer Technical Support (MCC), P.O. Box 992, CH-6371 Stans, Switzerland; telephone: +41 (0)41 619 67 74; fax: +41 (0)41 619 67 73; email: Techsupport@pilatus-aircraft.com; internet: https://www.pilatus-aircraft.com/en. You may view this service information at the FAA, Airworthiness Products Section, Operational Safety Branch, 901 Locust, Kansas City, Missouri 64106. For information on the availability of this material at the FAA, call (816) 329-4148. It is also available at https://www.regulations.gov by searching for and locating Docket No. FAA-2020-0753.

Examining the AD Docket

You may examine the AD docket at https://www.regulations.gov by searching for and locating Docket No. FAA-2020-0753; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Doug Rudolph, Aviation Safety Engineer, FAA, General Aviation & Rotorcraft Section, International Validation Branch, 901 Locust, Room 301, Kansas City, Missouri 64106; telephone: (816) 329-4059; fax: (816) 329-4090; email: doug.rudolph@faa.gov.

SUPPLEMENTARY INFORMATION:

Background

The FAA issued a notice of proposed rulemaking (NPRM) to amend 14 CFR part 39 by adding an AD that would apply to certain serial-numbered Pilatus Aircraft Ltd. Model PC-24 airplanes. The NPRM published in the Federal Register on September 2, 2020 (85 FR 54515). The NPRM was prompted by MCAI originated by the European Union Aviation Safety Agency (EASA), which is the Technical Agent for the Member States of the European Union. EASA issued AD No. 2019-0166, dated July 15, 2019 (referred to after this as “the MCAI”), to correct an unsafe condition for Pilatus Aircraft Ltd. Model PC-24 airplanes. The MCAI states:

During maintenance it was found that affected parts located close to the right-hand pitot/static connector on frame 10 showed signs of overheating.

This condition, if not corrected, could lead to an uncontrolled fire in the cockpit area, or loss of probe heating and de-icing function, possibly resulting in reduced control of the aeroplane.

To address this potential unsafe condition, Pilatus issued the [service bulletin] SB to provide modification instructions.

For the reason described above, this [EASA] AD requires replacement of affected parts with serviceable parts, and prohibits (re)installation of affected parts.

The MCAI identifies the “affected part” as electrical wiring splice part number (P/N) 971.31.32.561 and a “serviceable part” as electrical wiring splice P/N 971.31.32.641. EASA identified the root cause of the overheating as internal corrosion of the affected splices, which are not immersion-resistant, due to moisture ingress. The serviceable splices are immersion-resistant. You may examine the MCAI at https://www.regulations.gov by searching for and locating Docket No. FAA-2020-0753.

Discussion of Final Airworthiness Directive

Comments

The FAA received no comments on the NPRM or on the determination of the costs.

Conclusion

The FAA reviewed the relevant data and determined that air safety requires adopting this AD as proposed in the NPRM. Accordingly, the FAA is issuing this AD to address the unsafe condition on these products.

Related Service Information Under 1 CFR Part 51

Pilatus Aircraft Ltd. has issued Pilatus PC-24 Service Bulletin No. 30-002, dated April 3, 2019. The service information contains procedures for replacing certain electrical splices and wire for the pitot and static probes. This service information is reasonably available because the interested parties have access to it through their normal course of business or by the means identified in the ADDRESSES section.

Costs of Compliance

The FAA estimates that this proposed AD will affect 16 products of U.S. registry. The FAA also estimates that it would take 6 work-hours per product to comply with the basic requirements of this proposed AD. The average labor rate is $85 per work-hour. Required parts would cost about $65 per product.

Based on these figures, the FAA estimates the cost of the proposed AD on U.S. operators to be $9,200, or $575 per product.

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2020-24-01 Pilatus Aircraft Ltd.: Amendment 39-21331; Docket No. FAA-2020-0753; Project Identifier 2019-CE-033-AD.

(a) Effective Date

This airworthiness directive (AD) is effective December 28, 2020.

(b) Affected ADs

None.

(c) Applicability

This airworthiness directive (AD) applies to Pilatus Aircraft Ltd. Model PC-24 airplanes, serial numbers 101 through 125 inclusive, certificated in any category.

(d) Subject

Air Transport Association of America (ATA) Code 30: Ice and Rain Protection.

(e) Reason

This AD was prompted by mandatory continuing airworthiness information (MCAI) originated by an aviation authority of another country to identify and correct an unsafe condition on an aviation product. The MCAI describes the unsafe condition as overheating of the electrical wiring splices close to the right-hand pitot-static connector on frame 10. The FAA is issuing this AD to prevent overheating of the pitot and static probe electrical splices, which could lead to loss of probe heating and de-icing function or an inflight fire.

(f) Actions and Compliance

Unless already done, do the following actions in paragraphs (f)(1) and (2) of this AD:

(1) Within 3 months after the effective date of this AD, for the pitot and static probes de-ice wiring, replace wire H279A10 with wire H279A12 and replace each electrical wiring splice part number (P/N) 971.31.32.561 with electrical wiring splice P/N 971.31.32.641 by following the Accomplishment Instructions—Aircraft, section 3.B., of Pilatus Aircraft Ltd. PC-24 Service Bulletin No. 30-002, dated April 3, 2019.

(2) After completing the requirements of paragraph (f)(1) of this AD, do not install a pitot and static probes de-ice wire H279A10 or electrical wiring splice P/N 971.31.32.561 on any airplane.

(g) Alternative Methods of Compliance (AMOCs)

The Manager, International Validation Branch, FAA, has the authority to approve AMOCs for this AD, if requested using the procedures found in 14 CFR 39.19. Send information to Doug Rudolph, Aviation Safety Engineer, FAA, General Aviation & Rotorcraft Section, International Validation Branch, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(h) Related Information

Refer to MCAI European Union Aviation Safety Agency AD No. 2019-0166, dated July 15, 2019. You may examine the MCAI at https://www.regulations.gov by searching for and locating Docket No. FAA-2020-0753.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) Pilatus PC-24 Service Bulletin No. 30-002, dated April 3, 2019.

(ii) [Reserved]

(3) For Pilatus Aircraft Ltd. service information identified in this AD, contact Pilatus Aircraft Ltd., Customer Technical Support (MCC), P.O. Box 992, CH-6371 Stans, Switzerland; telephone: +41 (0)41 619 67 74; fax: +41 (0)41 619 67 73; email: Techsupport@pilatus-aircraft.com; internet: https://www.pilatus-aircraft.com/en.

(4) You may view this service information at the FAA, Airworthiness Products Section, Operational Safety Branch, 901 Locust, Kansas City, Missouri 64106. For information on the availability of this material at the FAA, call (816) 329-4148.

(5) You may view this service information that is incorporated by reference at the National Archives and Records Administration (NARA). For information on the availability of this material at NARA, email: fedreg.legal@nara.gov, or go to: https://www.archives.gov/federal-register/cfr/ibr-locations.html.

Issued on November 9, 2020.
Lance T. Gant,
Director, Compliance & Airworthiness Division, Aircraft Certification Service.

[FR Doc. 2020-25701 Filed 11-20-20; 8:45 am]

BILLING CODE 4910-13-P